SMALL BUSINESS ADMINISTRATION

Military Reservist Economic Injury Disaster Loans; Interest Rate for Third Quarter FY 2024

AGENCY: Small Business Administration.

ACTION: Notice.

SUMMARY: This is a notice of the Military Reservist Economic Injury Disaster Loans interest rate for loans approved on or after May 6, 2024.

DATES: Issued on June 26, 2024.

FOR FURTHER INFORMATION CONTACT: Robert Blocker, Office of Financial Assistance, U.S. Small Business Administration, 409 3rd Street SW, Suite 6050, Washington, DC 20416, (202) 619-0477.

SUPPLEMENTARY INFORMATION: The Small Business Administration publishes an interest rate for Military Reservist Economic Injury Disaster Loans (13 CFR 123.512) on a quarterly basis. The interest rate will be 4.000 for loans approved on or after May 6, 2024.

Robert Blocker,
Chief, Disaster Loan Policy Division, Office of Financial Assistance.

[FR Doc. 2024-14403 Filed 6-28-24; 8:45 am]

BILLING CODE 8026-09-P